FEDERAL MARITIME COMMISSION

Ocean Transportation Intermediary License Applicants

The Commission gives notice that the following applicants have filed an application for an Ocean Transportation Intermediary (OTI) license as a Non-Vessel-Operating Common Carrier (NVO) and/or Ocean Freight Forwarder (OFF) pursuant to section 19 of the Shipping Act of 1984 (46 U.S.C. 40101). Notice is also given of the filing of applications to amend an existing OTI license or the Qualifying Individual (QI) for a licensee.

Interested persons may contact the Office of Ocean Transportation Intermediaries, Federal Maritime Commission, Washington, DC 20573, by telephone at (202) 523-5843 or by email at OTI@fmc.gov.

Aboard Cargo Service, Inc. (NVO & OFF), 1952 NW 93rd Avenue, Doral, FL 33172. Officer: Roberto A. Pereira, President (QI). Application Type: New NVO & OFF License.

Caribbean Forwarding LLC (NVO & OFF), 2070 NW 79th Avenue, #204, Doral, FL 33122. Officers: Luis G. Leal-Perez, Manager (QI), Doris Rodriguez, Manager. Application Type: QI Change.

Direct Parcel Service, Corp. dba DPS Cargo (NVO & OFF), 7701 NW 46th Street, Doral, FL 33166. Officers: Amado E. Jimenez, Vice President (QI), Veronica Morales, Director. Application Type: QI Change.

Dongbu Express U.S.A. Inc. (NVO & OFF), 19191 S. Vermont Avenue, #610, Torrance, CA 90502. Officers: Maria Lee, Vice President (QI), Joosup Jung, CEO. Application Type: New NVO & OFF License.

E.T.H. Cargo Services Inc. (OFF), Av. Galicia Q 891, Carolina, PR 00983. Officers: Wolfgang Herzig, President (QI), Claudia B. Herzig, Secretary. Application Type: New OFF License.

Greymar International Freight LLC (NVO & OFF), 8579 NW 72nd Street, Miami, FL 33166. Officers: Greta E. Suarez, Manager (QI), Hector E. Escobar, Manager/Member. Application Type: New NVO & OFF License.

Hospitality Logistics International LLC (NVO & OFF), 4201 Congress Street, Suite 120, Charlotte, NC 28209. Officers: John P. Clancey, Managing Member (QI), Megan C. Murphy, Member. Application Type: New NVO & OFF License.

KCE Logistics Inc. (NVO), 1982 NW 82nd Avenue, Miami, FL 33126. Officers: Seung J. Yang, President (QI), Laura Reyes, Secretary. Application Type: QI Change.

Latin Gate OTI, Inc. (NVO & OFF), 13831 SW 59th Street, #103, Miami, FL 33183. Officers: Miguel A. Sierra, Vice President (QI), Nilda Sierra, President. Application Type: New NVO & OFF License.

Mainfreight, Inc. (NVO & OFF), 1400 Glenn Curtiss Street, Carson, CA 90746. Officers: Thomas Donahue, III, Vice President (QI), John Hepworth, President. Application Type: Add Trade Name of Mainline.

ODS—Orient Shipping & Logistics, LLC (NVO & OFF), 3785 NW 82nd Avenue, Doral, FL 33166. Officers: Silvia Rubio, Vice President (QI), Sven-Olaf Mulzahn, Member. Application Type: New NVO & OFF License.

Premier Van Lines International Inc. (NVO), 2509 S. Power Road, Suite 207, Mesa, AZ 85209. Officer: James A. Haddow, President (QI). Application Type: New NVO License.

Ryder Global Services, LLC (NVO & OFF), 11690 NW. 105th Street, Law 4W, Miami, FL 33178. Officers: Chris Merritt, Vice President (QI), John H. Williford, President. Application Type: New NVO & OFF License.

Victoria Line, LLC (NVO & OFF), 2000 NW. 84th Avenue, Miami, FL 33122. Officers: Alberto J. Marino, Sr., Managing Member (QI), Jorge R. DeTuya, Member. Application Type: New NVO & OFF License.

World Cargo Logistics Limited Liability Company (NVO & OFF), 22 Cottage Street, Belleville, NJ 07109. Officer: Anthony DellaValle, Member (QI). Application Type: New NVO & OFF License

By the Commission.
Dated: October 5, 2012.
Karen V. Gregory,
Secretary.

[FR Doc. 2012-26222 Filed 10-23-12; 8:45 am]

BILLING CODE 6730-01-P